DEPARTMENT OF THE INTERIOR

Fish and Wildlife Service

Aquatic Nuisance Species Task Force Gulf of Mexico Regional Panel Meeting

AGENCY: Fish and Wildlife Service, Interior.

ACTION: Notice of meeting.

SUMMARY: This notice announces a meeting of the Aquatic Nuisance Species (ANS) Task Force Gulf of Mexico Regional Panel. The meeting topics are identified in the SUPPLEMENTARY INFORMATION.

DATES: The Gulf of Mexico Regional Panel will meet from 1 p.m. to 5 p.m. on Monday, November 8, 2004, 8:30 a.m. to 5 p.m. on Tuesday, November 9, 2004, and 8:30 a.m. to 12 p.m. on Wednesday, November 10, 2004. Minutes of the meeting will be available for public inspection during regular business hours, Monday through Friday.

ADDRESSES: The Gulf of Mexico Regional Panel meeting will be held at the Palace Resort and Hotel, 158 Howard Avenue, Biloxi, MS 39530. Phone 228-432-8888. Minutes of the meeting will be maintained in the office of Chief, Division of Environmental Quality, U.S. Fish and Wildlife Service, Suite 322, 4401 North Fairfax Drive, Arlington, Virginia 22203-1622.

FOR FURTHER INFORMATION CONTACT: Ron Lukens, Gulf of Mexico Panel Chair, Assistant Director, Gulf States Marine Fisheries Commission, PO Box 726, Ocean Springs, MS 39566, 228-875-5912, or Everett Wilson, U.S. Fish and Wildlife Service at 703-358-2148.

SUPPLEMENTARY INFORMATION: Pursuant to section 10(a)(2) of the Federal Advisory Committee Act (5 U.S.C. app. I), this notice announces meetings of the Aquatic Nuisance Species Task Force Gulf of Mexico Regional Panel. The Task Force was established by the Nonindigenous Aquatic Nuisance Prevention and Control Act of 1990. The Gulf of Mexico Regional Panel was established by the ANS Task Force in 1999 and is comprised of representatives from Federal, State, and local agencies and from private environmental and commercial interests.

The purpose of the Panel is to advise and make recommendations to the Aquatic Nuisance Species Task Force on issues relating to the Gulf of Mexico region of the United States that includes: Alabama, Florida, Louisiana, Mississippi, and Texas. Responsibilities of the Panel include:

a. Identifying priorities for the Gulf of Mexico Region with respect to aquatic nuisance species;

b. Making recommendations to the Task Force regarding actions to carry out aquatic invasive species programs.

c. Assisting the Task Force in coordinating Federal aquatic nuisance species program activities in the Gulf of Mexico region;

d. Coordinating, where possible, aquatic invasive species program activities in the Gulf of Mexico region that are not conducted pursuant to the Nonindigenous Aquatic Nuisance Prevention and Control Act of 1990 (as amended, 1996);

e. Providing advice to public and private individuals and entities concerning methods of controlling aquatic nuisance species; and

f. Submitting an annual report describing activities within the Western region related to aquatic nuisance species prevention, research, and control.

The Gulf of Mexico Regional Panel will discuss several topics at this meeting including: Panel administrative issues, potential new memberships, updates on the status of State ANS management plans, presentations from South Atlantic States, a discussion on the pet industry project, a discussion of the public aquarium project, work group reports, and a discussion of strategic plan development.

Dated: September 10, 2004.
M. A. Parker,
Co-Chair, Aquatic Nuisance Species Task Force, Assistant Director—Fisheries & Habitat Conservation.

[FR Doc. 04-21781 Filed 9-28-04; 8:45 am]

BILLING CODE 4310-55-P